DEPARTMENT OF THE TREASURY

Internal Revenue Service

[REG-118662-98]

Proposed Collection: Comment Request for Regulation Project; Correction

AGENCY: Internal Revenue Service (IRS), Treasury.

ACTION: Correction to notice and request for comments.

SUMMARY: This document contains a correction to a notice and request for comments, which was published in the Federal Register on Monday, November 22, 2004 (69 FR 68003).

FOR FURTHER INFORMATION CONTACT: Allan Hopkins, (202) 622-6665 (not a toll-free number).

SUPPLEMENTARY INFORMATION:

Background

The notice and request for comments that is the subject of this correction is required by the Paperwork Reduction Act of 1995, Public Law 104-13 (44 U.S.C. 3506(c)(2)(A)).

Need for Correction

As published, the comment request for regulation project contains an error which may prove to be misleading and is need of clarification.

Correction of Publication

Accordingly, the publication of the comment request for regulation project, which was the subject of FR Doc. 04-25873, is corrected as follows:

On page 68003, column 2, under the caption SUPPLEMENTARY INFORMATION:, the language, “Estimated Time per Respondent: 1 hr.” is corrected to read “Estimated Time per Respondent: 1 hr., 16 min”.

Cynthia E. Grigsby,
Acting Chief, Publications and Regulations Branch, Legal Processing Division, Associate Chief Counsel, (Procedure and Administration).

[FR Doc. 04-27163 Filed 12-9-04; 8:45 am]

BILLING CODE 4830-01-P